DEPARTMENT OF TRANSPORTATION

National Highway Traffic Safety Administration

[Docket No. NHTSA-2021-0070]

Agency Information Collection Activities; Submission to the Office of Management and Budget for Review and Approval; Incident Reporting for Automated Driving Systems (ADS) and Level 2 Advanced Driver Assistance Systems (ADAS)

AGENCY: National Highway Traffic Safety Administration (NHTSA), Department of Transportation (DOT).

ACTION: Notice and request for comments on a request for extension of a currently approved information collection.

SUMMARY: In compliance with the Paperwork Reduction Act of 1995 (PRA), this notice announces that the Information Collection Request (ICR) summarized below will be submitted to the Office of Management and Budget (OMB) for review and approval. This ICR describes NHTSA's information collection for incident reporting requirements for Automated Driving Systems (ADS) and Level 2 Advanced Driver Assistance Systems (ADAS) and its expected burden. NHTSA recently requested emergency review of its request for approval of this information collection and received a six-month approval. To start the normal clearance procedures and request OMB's approval for a three-year extension of this currently approved information collection, NHTSA published a Federal Register notice with a 60-day comment period soliciting comments on the information collection on September 30, 2021. NHTSA received 14 comments on the notice, as well as four letters regarding the information collection that were submitted directly to NHTSA.

DATES: Comments must be submitted on or before January 28, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Jeff Eyres, Office of Chief Counsel, telephone (202) 913-4307, or email at jeffrey.eyres@dot.gov, U.S. Department of Transportation, 1200 New Jersey Avenue SE, Washington, DC 20590.

SUPPLEMENTARY INFORMATION: Under the PRA (44 U.S.C. 3501 et seq.), a Federal agency must receive approval from the Office of Management and Budget (OMB) before it collects certain information from the public, and a person is not required to respond to a collection of information by a Federal agency unless the collection displays a valid OMB control number. In compliance with these requirements, this notice announces that the following information collection request will be submitted to OMB.

Title: Incident Reporting for Automated Driving Systems (ADS) and Level 2 Advanced Driver Assistance Systems (ADAS).

OMB Control Number: 2127-0754.

Form Number(s): Form 1612.

Type of Request: Approval of an extension with modification of a currently approved collection of information.

Type of Review Requested: Regular.

Requested Expiration Date of Approval: 3 years from date of approval.

Summary of the Collection of Information:

NHTSA requested and received emergency review and approval of this information collection. NHTSA submitted the request on June 29, 2021. On June 30, 2021, OMB granted NHTSA a six-month approval for this information collection and assigned the collection the OMB control number 2127-0754. NHTSA is publishing this document to seek an extension of this information collection.

NHTSA is seeking approval to extend its currently approved information collection requiring certain manufacturers of motor vehicles and equipment and operators of motor vehicles to submit incident reports for certain crashes involving Automated Driving Systems (ADS) and Level 2 Advanced Driver Assistance Systems (ADAS). These crash reporting obligations are set forth in NHTSA's Standing General Order 2021-01 (General Order) (as amended on August 5, 2021), which requires those manufacturers and operators named in and served with the General Order to report crashes that meet specified criteria to NHTSA.¹

¹ A copy of the General Order is available on NHTSA's website at https://www.nhtsa.gov/laws-regulations/standing-general-order-crash-reporting-levels-driving-automation-2-5.

Specifically, the General Order requires the named manufacturers and operators (the reporting entities) to submit reports if they receive notice of certain crashes involving an ADS or Level 2 ADAS equipped vehicle that occur on publicly accessible roads in the United States. To be reportable, the vehicle, the ADS, or the Level 2 ADAS must have been manufactured by the reporting entity or the vehicle must have been operated by a reporting entity at the time of the crash, and the ADS or Level 2 ADAS must have been engaged at the time of or immediately before (≤30 seconds) the crash. In the event that a reporting entity receives notice of a reportable crash, the General Order requires the reporting entity to submit an incident report electronically to NHTSA. The required report includes basic information sufficient for NHTSA to identify those crashes that warrant follow-up. The reporting obligations are limited to those entities named in and served with the General Order. The General Order imposes no reporting obligations on any other companies and likewise imposes no reporting obligations on any individual consumers.

The agency has received incident reports for the past five months under its 6-month emergency clearance. Based on the agency's experience in reviewing these reports, and on the public comments received in response to the notice it published in the Federal Register, NHTSA has decided to amend the General Order. These changes, as well as a more detailed explanation of the information collection, is provided below in the section discussing the 60-day notice.

Description of the Need for the Information and Proposed Use of the Information

Under the National Traffic and Motor Vehicle Safety Act, as amended (the Safety Act), 49 U.S.C. Chapter 301, NHTSA is charged with authority “to reduce traffic accidents and deaths and injuries resulting from traffic accidents.” To carry out this statutory mandate, NHTSA has broad information gathering authority, including authority to obtain information on vehicle crashes, potential defects related to motor vehicle safety, and compliance with legal requirements to timely identify and conduct recalls for safety defects. 49 U.S.C. 30166(e), (g), 30118-30120; 49 CFR Part 510.

NHTSA's statutory mandate includes the exercise of its authority to proactively ensure that motor vehicles and motor vehicle equipment, including those with novel technologies, perform in ways that protect the public against unreasonable risk of accidents occurring because of the design, construction, or performance of a motor vehicle, and against unreasonable risk of death or injury in an accident. 49 U.S.C. 30102. Both ADS and ADAS are “motor vehicle equipment” subject to the requirements of the Safety Act. Given the rapid evolution of these technologies and increasing testing of new technologies and features on publicly accessible roads, it is critical for NHTSA to exercise its oversight over potential safety defects in vehicles operating with ADS and Level 2 ADAS. The Safety Act is preventive, and the identification of safety defects does not and should not wait for injuries or deaths to occur.

ADS and Level 2 ADAS are new technologies that fundamentally alter the task of driving a motor vehicle. Crashes involving vehicles equipped with these technologies have resulted in multiple fatalities and serious injuries, and NHTSA anticipates that the number of these crashes will continue to grow in the near future given the increased number of these vehicles on the road and the increased number of vehicle and equipment manufacturers in the market. The General Order provides the agency with critical and timely crash data, which assists the agency in identifying potential safety issues resulting from the operation of advanced technologies on public roads. Access to this crash data may show whether there are common patterns in vehicle crashes or systematic problems with specific vehicles or systems, any of which may reflect a potential safety defect.

NHTSA intends to evaluate whether specific manufacturers (including manufacturers of prototype vehicles and equipment) are meeting their statutory obligations to ensure that their vehicles and equipment are free of defects that pose an unreasonable risk to motor vehicle safety, or are recalled if such a safety defect is identified. NHTSA's oversight of potential safety defects in vehicles operating on publicly accessible roads using ADS or Level 2 ADAS requires that NHTSA have timely information on incidents involving those vehicles. In carrying out the Safety Act, NHTSA may “require, by general or special order, any person to file reports or answers to specific questions.” 49 U.S.C. 30166(g)(1)(A).

60-Day Notice

A Federal Register notice with a 60-day comment period soliciting public comments on the following information collection was published on September 30, 2021 (86 FR 54287). The agency received fourteen comments from business, insurance, and industry associations, safety and consumer advocates, manufacturers and developers, and an interested individual. The agency also docketed four letters regarding the General Order that were received prior to publication of the 60-day notice.

NHTSA received comments that both supported NHTSA's intention to seek approval for a three-year approval from OMB and comments that were not supportive of the information collection or expressed concerns about the current requirements. In general, comments from safety and consumer advocate groups were more supportive and comments from the industry and industry groups expressed more criticism of the information collection. Specifically, NHTSA received comments regarding the definitions of “notice” and “crash,” the reporting requirements under Request No. 1, the reporting requirements under Request No. 2, the reporting requirements under Request No. 3, the reporting Requirements under Request No. 4, the Incident Report Form, the requirement that each reporting entity with notice of a reportable crash file a separate report, the burden placed by the General Order on “vehicle suppliers,” the requirements for submitting confidential business information (CBI), and the hourly burden estimates and associated labor cost estimates. A summary of the major comments and NHTSA's responses is provided below.

Comments on the Definition of “Notice”

A reporting entity's duty to submit an incident report under the General Order is triggered by notice of facts meeting the criteria for different types of reports. It is the reporting entity's receipt of notice of these facts, and not the existence of a crash, that triggers the duty to report.

The General Order includes the following definition of the term “Notice”:

“Notice” is defined more broadly than in 49 CFR § 579.4 and means information you have received from any internal or external source and in any form (whether electronic, written, verbal, or otherwise) about an incident that occurred or is alleged to have occurred; including, but not limited to vehicle reports, test reports, crash reports, media reports, consumer or customer reports, claims, demands, and lawsuits. A manufacturer or operator has notice of a crash or a specified reporting criterion (i.e., a resulting hospital-treated injury, fatality, vehicle tow-away, air bag deployment, or the involvement of a vulnerable road user) when it has notice of facts or alleged facts sufficient to meet the definition of a crash or a specified reporting criterion, regardless of whether the manufacturer has verified those facts.

The General Order's definition of notice is intentionally broad and provides that a reporting entity that receives information from any source and in any form, written or unwritten, verified or unverified, constitutes notice of the facts included in that information.²

² Although nothing in the General Order requires a reporting entity to affirmatively seek out facts about which it does not otherwise have notice, the agency expects that manufacturers and operators, as part of their ongoing defect identification and safety procedures, will investigate safety-related incidents with reasonable diligence. The agency likewise notes that a manufacturer is required to notify NHTSA if it “learns the vehicle or equipment contains a defect and decides in good faith that the defect is related to motor vehicle safety.” 49 U.S.C. § 30118(c)(1). The manufacturer must notify NHTSA after it “first decides that a safety-related defect” exists, 49 U.S.C. § 30119(c)(2), and must also submit a defect report under Part 573, “not more than 5 working days after a defect in a vehicle or item of equipment has been determined to be safety related.” 49 CFR § 573.6. The “good faith” requirement in Section 30118(c)(1) means that a manufacturer must notify NHTSA within five working days of when it actually identifies or, in the exercise of reasonable diligence, should have identified, a safety defect or noncompliance. See United States v. Gen. Motors Corp., 656 F. Supp. 1555, 1559 n.5 (D.D.C. 1987), aff'd on other grounds, 841 F.2d 400 (D.C. Cir. 1988).

Multiple commenters submitted comments stating that this definition is overly broad and creates an unnecessary burden on the reporting entities. The agency received comments on this issue from the U.S. Chamber of Commerce-Technology Engagement Center (“C_TEC”), the Consumer Technology Association (“CTA”), the Self-Driving Coalition for Safer Streets (“the Self-Driving Coalition”), the Alliance for Automotive Innovation (“Auto Innovators”), the Motor and Equipment Manufacturers Association (“MEMA”), and Aurora Operations, Inc. (“Aurora”).

Many of these comments focus on the fact that notice can come in the form of any information from any source. These commenters suggest that this definition should be narrowed to information intentionally directed to the reporting entity, information directed to a specified group of individuals, information in the form of a written claim or notice, or to exclude media reports.

The agency disagrees with these comments. The agency has found, through its own experience, that media reports are a valuable source of initial information regarding crashes of interest and does not believe that notice should come only in the form of written claims or notices. The agency understands that many of the reporting entities have processes already in place to review media stories regarding their vehicles and crashes regarding those vehicles. The agency also sees no reason to limit the term notice to written claims or notices directed to the reporting entity as information regarding reportable crashes can come from a variety of other sources. The agency therefore declines to limit this definition as suggested.

Other comments focused on the fact that the definition of notice includes any information received by the reporting entity and is not limited to specific individuals or employees within a specific department, employees of a certain seniority level, or employees with responsibilities relating to the review of and response to safety-related information. These comments suggest that the definition of notice should be limited to information received by those persons who normally receive information regarding crash reports and potential safety issues. Several comments include hypotheticals in which a production line employee or other employee with no specific responsibility for safety is told or reads about a crash (perhaps even while the employee is not working) that triggers a reporting requirement.

The agency disagrees with these comments, which appear to be largely based on theoretical hypotheticals rather than actual experience. As explained, the definition of notice is intentionally broad to ensure that the agency receives timely notice of all crashes that meet the reporting criteria. The list of reporting entities includes companies of different sizes and structures, which makes it difficult to identify a limited group of persons for purposes of this definition. The agency also notes that, despite the theoretical hypotheticals, none of the comments includes a real word example of actual situations that resulted in confusion or excessive burden. The agency is likewise unaware of any reports that have been submitted based on notice received in a manner similar to those suggested by these hypotheticals.

The agency need not, for the purposes of responding to these comments, engage in a legal analysis of whether information received, for example, by a production line worker, janitorial staff, or a marketing intern constitutes information received by the company. The agency expects that each reporting entity already has or will put into place internal reporting processes and implement training that reflect the size, nature, and business of that entity. Nonetheless, the agency also states that, if faced with a potential enforcement issue involving, as the hypotheticals suggest, an employee far removed from any responsibility for receiving, reporting, or analyzing potential safety-related information, the agency will consider any appropriate enforcement discretion warranted by the circumstances.

Other comments focus on that portion of the definition providing that a company has notice of facts when those facts are alleged, regardless of whether the reporting entity has verified those facts. These comments argue that including facts that have not yet been verified by the reporting entity substantially decreases the value of the reported information and increases the burden on the reporting entities.

The agency disagrees with these comments. The purpose of the General Order is to provide the agency with timely notice of crashes and circumstances that may reflect a safety-related defect with ADS or Level 2 ADAS equipped subject vehicles. The agency needs notice of these crashes and allegations before a reporting entity takes some indeterminate amount of time to investigate and try to verify the allegations, and the agency needs notice of these allegations regardless of whether they are disputed or have been verified by the reporting entities. The agency's own experience likewise counsels against limiting the scope of the reporting obligation to those facts that the reporting entity has verified or does not dispute. To the extent a reporting entity disputes the alleged facts, considers the alleged facts implausible, or even simply has not had time to investigate, it is able to provide that information and context in the narrative section of the incident report.

Other comments attempt to draw analogies with reporting requirements that apply to manufacturers under the agency's EWR (also referred to as TREAD) regulations. See 49 U.S.C. 30166; 49 CFR Part 579. These comments argue that the scope of the reporting obligations under the General Order should be narrowed to make them more similar in scope and burden to the reporting obligations under the EWR regulations. The agency disagrees with these comments and notes once again (as it did in its application for emergency authorization and in the 60-day notice) that one of the primary reasons the agency issued the General Order is that its existing information gathering regulations are different in scope (they apply only to manufacturers), in the information required to be submitted (they require no specific information about ADS or Level 2 ADAS), and in the timeliness with which the information is required to be submitted (which is frequently many months after an incident occurred).

Comments on Definition of “Crash”

A reporting entity's reporting obligation under the General Order is limited to “crashes” that meet the specified criteria. The General Order includes the following definition of the term “Crash”:

“Crash” means any physical impact between a vehicle and another road user (vehicle, pedestrian, cyclist, etc.) or property that results or allegedly results in any property damage, injury, or fatality. For clarity, a subject vehicle is involved in a crash if it physically impacts another road user or if it contributes or is alleged to contribute (by steering, braking, acceleration, or other operational performance) to another vehicle's physical impact with another road user or property involved in that crash.

Under this definition, a crash occurs any time a motor vehicle impacts another road user or property and the impact results in property damage, injury, or fatality. Likewise, a subject vehicle is involved in a crash (which may trigger a reporting obligation), even if it is not involved in the resulting impact, if it nonetheless contributes or is alleged to contribute to the resulting impact.

MEMA, Aurora, Auto Innovators, the Self-Driving Coalition, and C_TEC each submitted comments stating that the definition of “crash” is overly-broad and creates unnecessary burden because it includes those impacts that result in “any property damage.” As the comments note, “any property damage” could include a slight paint scratch from a minor impact or other damage that might otherwise be considered de minimus. These comments state that requiring reporting entities to submit incident reports on these crashes provides the agency with no useful information while creating substantial burden on the reporting entities. These comments further suggest, as a proposed solution, that the definition of “crash” should be amended to include a threshold amount of damage such as $250 or $1,000 or limited to damage other than the subject vehicle itself.

The agency disagrees with these comments. The agency notes first that notice of an incident that meets the definition of a crash, by itself, does not trigger the obligation to submit an incident report. To be reportable, the crash must also meet the criteria specified in Request No. 1 or Request No. 2.

To be reportable under Request No. 1, which applies to both Level 2 ADAS and ADS equipped vehicles, the crash must also involve, among other criteria, a fatality, a hospital treated injury, an air bag deployment, a vehicle tow-away, or a vulnerable road user (VRU). The agency is unaware of any crash involving one of these criteria that resulted in only a minor paint scratch or other de minimus damage and believes that any such crash is extremely unlikely to occur.

In contrast, under Request No. 2, which applies to ADS equipped vehicles, minor damage could result in a reporting obligation under Request No. 2, if the ADS system was engaged 30 seconds or less prior to the start of the crash. The concern expressed by these comments is therefore limited to a small subset of crashes involving ADS-equipped vehicles rather than the reporting obligations under the General Order as a whole.

At this time, there are no ADS equipped vehicles available for consumer purchase or use. Instead, these vehicles are typically operated as test vehicles or for limited commercial purposes such as taxi or delivery services under special use permits from State or local authorities and often under exemptions granted by and/or conditions imposed by the agency. As NHTSA noted in the General Order, “ADS present new and unique risks to motor vehicle safety because they fundamentally alter the nature of motor vehicles and their operation.” The General Order therefore requires that reporting entities submit incident reports for all crashes involving ADS equipped vehicles that meet the reporting criteria under Request No. 2, regardless of the extent or cost to repair any resulting damage. The agency believes that this reporting requirement is necessary and appropriate and that it does not create unnecessary or excessive burden for operators and manufacturers of ADS equipped vehicles and equipment.

The agency also disagrees that a reporting threshold based on the cost to repair any resulting property damage would have any material effect on the burden imposed on the reporting entities. To determine whether the cost to repair resulting damage exceeds a specific dollar value, the reporting entity would have to engage in an entirely different analysis that could involve repair estimates and differing cost structures depending on whether the repair was performed internally or by a third-party or whether parts were valued at wholesale or retail cost. A crash involving a vehicle owned by a large vehicle manufacturer with internal repair facilities might therefore not be reportable, while the same crash with the same damage might be reportable to a small developer that uses a third-party repair facility. Enforcement issues could likewise turn on whether the repair cost of the damage was $75.00 or $1,025.00 rather than the simpler question of whether there was any property damage. The agency therefore declines to amend the definition of crash to include a threshold amount of damage.³

³ For the avoidance of doubt, the agency also confirms that the property damage referenced in the definition of crash includes damage to the subject vehicle itself and declines to amend the definition of crash to exclude damage to the subject vehicle itself.

Several comments also focus the clarifying statement in the definition stating that a vehicle is involved in a crash if it contributes or is alleged to contribute to the crash and argue that this statement makes the definition ambiguous with respect to when a vehicle is involved in a crash. The agency disagrees with these comments. The verb “contribute,” when used in its intransitive form (as it is in the definition of crash), has a commonly understood meaning—“to play a significant part in making something happen.” ⁴ A vehicle therefore is involved in a crash if it physically impacts another road user or if it plays or is alleged to play a significant part (by steering, braking, acceleration, or other operational performance) in causing another vehicle's physical impact with another road user or property involved in that crash. The agency does not believe this statement is ambiguous or otherwise in need of clarification.

⁴ See https://www.merriam-webster.com/dictionary/contribute.

Comments on Request No. 1

Under Request No. 1 of the General Order, a reporting entity must report any crash involving an ADS or Level 2 ADAS equipped vehicle that occurs on publicly accessible roads in the United States, where the ADS or Level 2 ADAS was engaged at any time during the period 30 seconds prior to the crash through the end of the crash, and the crash results in any individual being transported to a hospital for medical treatment, a fatality, a vehicle tow-away, or an air bag deployment or involves a vulnerable road user. Under these circumstances, the reporting entity must submit a report within one calendar day after the reporting entity receives notice of the crash, and an updated report is due 10 calendar days after receiving notice.

The 10-day report utilizes the same form and requests the same information as the one-day report. The 10-day report is a required follow up to the one-day report because it is anticipated that, for some (if not many) of these reportable crashes, the reporting entity will have minimal information one calendar day after it first receives notice. The General Order therefore requires both the one-day report, to give the agency prompt notice of a crash that may justify immediate follow up, and the 10-day report, to provide the agency with additional information regarding the crash about which the reporting entity may later receive notice. Reporting entities use the same incident report form for 1-day and 10-day crashes, and no different or incremental information is required for the 10-day report.

Multiple commenters, including C_TEC, Auto Innovators, CTA, Tesla, Inc. (“Tesla”), the Self-Driving Coalition, and MEMA, submitted comments stating that the requirement in Request No. 1 that an initial report be submitted within one calendar day is unnecessarily burdensome, provides no meaningful benefit to the agency, and increases the likelihood of inaccurate information being submitted to the agency. These comments focus on both the 1-day deadline for submitting the incident report, which requires reporting entities to report quickly following the receipt of notice, and the fact that the 1-day deadline is one calendar day rather than one business day, which requires reporting entities to monitor information and, if the criteria are met, to submit incident reports on weekends and holidays when the deadline falls on these days. These comments contend that the 1-day deadline creates unnecessary burden because a reporting entity has limited time to evaluate the notice it receives, determine whether a reporting obligation exists, and to prepare and submit an incident report if the crash is determined to be reportable. Because notice of a crash may come on a Friday afternoon or on a weekend and because the reports may need to be submitted on a weekend or holiday (or during a manufacturer's shut-down period), there is burden resulting from the need to have employees working or at least “on-call” to review information and file any required reports during these periods.

Many of these same comments suggest that the requirement of a 10-day updated incident report under Request No. 1 creates unnecessary burden and provides minimal information of value to the agency. These same comments suggest that this burden could be substantially reduced through a variety of different changes, including changing the deadlines from calendar days to business days, eliminating the 1-day report (i.e., requiring only a 10-day report), combining the 1-day and 10-day reports into a single 5-day report, and permitting a reporting entity to designate an initial report as “final” to indicate that its investigation is complete.⁵

⁵ Several comments noted that the deadline for reporting incidents in the agency's Standing General Order regarding Takata and ARC air bags is 5 business days. See In re EA15-001 (Takata) Air Bag Inflator Rupture and PE15-027 (ARC) Air Bag Inflator Rupture, Standing General Order 2015-01A Directed to Motor Vehicle Manufacturers (Aug. 17, 2015). The agency notes significant differences between the two general orders, including that the General Order 2015-01A required reporting entities to inquire with their foreign offices regarding air bag inflator ruptures that occurred outside the United States and to file reports regarding any such foreign incidents.

The agency understands the burden imposed by the 1-day and 10-day reporting requirements under Request No. 1. The agency also explained in its 60-day notice that the 1-day deadline is necessary to ensure that the agency has timely notice of those crashes reportable under Request No. 1 and the ability to timely respond to and investigate crashes reportable under Request No. 1. A later deadline could impede the agency's ability to respond or investigate, for example, by deploying a Special Crash Investigation (SCI) team to inspect the accident scene or vehicle, and a later deadline also could result in the loss of valuable information that is not properly preserved. The agency's experience since it issued the General Order has confirmed the importance of timely notice. The agency also has seen that prompt notice is most valuable for a subset of more serious crashes, specifically those for which the agency is most likely to send a team to investigate. In order to maintain timely notice with respect to these more serious incidents and, at the same time, reduce the resulting burden on respondents, NHTSA has decided to amend Request No. 1 of the General Order to create a new 5-day reporting category for some of these crashes.

Request No. 1 will be amended in a manner that keeps the 1-day and 10-day reporting sequence for any crash that involves a fatality, a hospital treated injury, or a vulnerable road user. For those crashes reportable under Request No. 1 that do not involve any of those criteria but involve an air bag deployment or a vehicle tow-away, the reporting requirement will be amended to a single incident report that must be submitted no later than 5 calendar days after the reporting entity receives notice. If the fifth calendar day falls on a weekend or holiday, the reporting entity may file this 5-day report early (i.e., before the fifth calendar day) to avoid the burden of having to file such a report on a weekend or holiday. For the avoidance of confusion, the agency makes clear that this change will not take effect until the General Order is formally amended to reflect this change.

Based on its experience with 5 months of reporting since the General Order was issued, the agency estimates that only 8% of the reports required under Request No. 1 will involve a fatality, a hospital treated injury, or a vulnerable road user and therefore need to be submitted under the 1-day and 10-day sequence. The remaining reports, those not involving any of those three criteria but involving an air bag deployment or vehicle tow-away, which NHTSA estimates to be 92% of the reports required under Request No. 1, will require a single report within 5 calendar days of receiving notice. The burden estimates set forth below have been adjusted to reflect this forthcoming amendment to the General Order.

Aurora also submitted comments suggesting that Request No. 1 should be amended to reduce the starting point for the period during which the ADS or Level 2 ADAS system must have been engaged from 30 seconds prior to the initiation of a crash to 5 seconds prior to the initiation of a crash. The agency declines to amend Request No. 1 in this manner because it believes the proposed amendment could prevent the agency from receiving information relating to a potential safety defect and because the proposed amendment would not result in any meaningful reduction in burden.

Comments on Request No. 2

Under Request No. 2 of the General Order, a reporting entity must report any crash involving an ADS equipped vehicle that is not reportable under Request No. 1, but nonetheless occurs on a publicly accessible road in the United States while the ADS system was engaged at any time during the period 30 seconds prior to the crash through the conclusion of the crash. As a practical matter, therefore, the differences between Request No. 1 and Request No. 2 are that Request No. 2 is limited to ADS equipped vehicles (and does not include Level 2 ADAS equipped vehicles) and that crashes reportable under Request No. 2 do not involve a fatality, hospital treated injury, an air bag deployment, a vehicle tow-away, or a vulnerable road user. Upon receipt of notice of a crash reportable under Request No. 2, a reporting entity must submit a report regarding the crash on the fifteenth day of the month after the reporting entity receives notice.

CTA and the Self-Driving Coalition submitted comments suggesting that Request No. 2 should be eliminated from the General Order because the reported incidents, which do not involve any of the criteria included in Request 1.C, involve less serious crashes that are unlikely to include any meaningful data. These same commenters suggested that, if Request No. 2 is not removed from the General Order, it should be modified to include a minimum amount of crash damage as a reporting threshold.

NHTSA disagrees with these comments. For the same reasons discussed above with respect to comments regarding the definition of “crash,” the agency declines to amend Request No. 2.

The Self-Driving Coalition's comments also suggested that Request No. 2, which is limited to crashes involving subject vehicles equipped with ADS (and does not include subject vehicles equipped with Level 2 ADAS), places a disproportionate burden on ADS manufacturers and operators. The agency disagrees with these comments. Given the unique nature of ADS and the lack of ADS equipped vehicles for consumer use and purchase, the agency believes that the reporting requirements in Request No. 2 are appropriate and are not unduly burdensome.

Comments on Request No. 3

Request No. 3 requires reporting entities to submit a supplemental report on a previously reported incident the month after it receives notice of any material new or materially different information about the incident. This reporting obligation continues throughout the duration of the General Order.

Auto Innovators submitted comments stating that the reporting obligations under Request No. 3 are overly burdensome, especially due to the continuing nature of this obligation. These comments state that, pursuant to this obligation, reporting entities are required to separately review every incident for which a report was previously filed in each subsequent month to determine whether a supplemental report is due. For reports filed during the early months of the General Order, this obligation will continue throughout the three-year requested extension, and, with the passage of time, the number of prior incidents that need to be reviewed each month will necessarily increase significantly.

The agency disagrees with these comments and believes they overstate the burden resulting from Request No. 3. The General Order does not require each reporting entity to review each prior report each month throughout the duration of the General Order. Instead, it requires a reporting entity that receives material new or materially different information regarding a crash for which it previously filed a report to file a supplemental report on the fifteenth day of the month after it receives notice of that information. The agency expects that, in the months immediately following the filing of an initial incident report, the reporting entity may need to carefully review whether it has received notice of information that triggers the obligation to submit a supplemental report under Request No. 3. With the passage of time, however, the agency believes that the burden resulting from Request No. 3 will diminish significantly. Nonetheless, the agency will continue to review reports submitted under Request No. 3 and evaluate the benefit of this information compared to the resulting burden. If the agency determines that this information is of little use and that an amendment is appropriate, it will have the benefit of the comments submitted and the solutions proposed.

Comments on Request No. 4

Request No. 4 of the General Order requires any reporting entity that has not submitted a monthly incident report under Request No. 2 or a monthly supplemental report under Request No. 3 to submit a report under Request No. 4 confirming that lack of reportable information under Requests Nos. 2 and 3.⁶ To submit such a report, a reporting entity need only log onto the internet portal, select the appropriate type of report on the drop-down menu, and then fill in the month and year for which the report is submitted.⁷

⁶ Although the text of the General Order is clear, the agency notes, to avoid any confusion or misunderstanding, that a report under Request No. 4 is due in “the absence of any new or updated Incident Reports due under Request No. 2 and Request No. 3.” Request Nos. 2, 3, and 4 each involve monthly reports, and the General Order is structured to require at least one monthly report from each reporting entity each month. Request No. 1 is not a monthly report. Therefore, a reporting entity that files a 1-day and/or 10-day report under Request No. 1 during the prior month but not a monthly report under Request Nos. 2 or 3 is still required to file a monthly report under Request No. 4.

⁷ The month and year included in the report should be the month and year for which the report is confirming the lack of reportable information under Request Nos. 2 and 3. A report filed on the fifteenth day of a month should therefore include the month and year for the prior month, which is the period for which the report is confirming the lack of reportable information. A reporting entity, when required to submit a report under Request No. 4, need only file a single report under Request No. 4 in any given month. It is not required to file a report under Request No. 4 for each previously reported crash.

The Association for Unmanned Vehicle Systems International (“AUVSI”), MEMA, and the Self-Driving Coalition submitted comments expressing the view that these reports, which contain no substantive crash information, are unnecessary, serve no useful function, and are therefore unnecessarily burdensome. The agency disagrees with these comments. The General Order is drafted in a manner to require that each reporting entity submit at least one monthly report (i.e., a report under Request No. 2, Request No. 3, or Request No. 4.) per month.⁸

⁸ Because reports submitted under Request No. 1 are not monthly reports, a reporting entity that has submitted a report under Request No. 1 but not a monthly report under Request No. 2 or Request No. 3 is still required to submit a monthly report under Request No. 4.

This requirement assists the agency in determining whether all the reporting entities are complying with their reporting requirements. Absent the reports required under Request No. 4, the agency would not know, for example, whether a reporting agency had nothing to report or was simply ignoring its reporting obligations. The agency also believes that, for some reporting entities, the obligation to file a monthly report in the absence of any reportable information under Request Nos. 2 and 3 provides an important reminder of the continuing obligation to report crashes that meet the specified criteria.

The burden associated with the reports required under Request No. 4 is minimal. A reporting entity should know, at the end of each calendar month, whether it is required to submit a report under Request No. 2 or Request No. 3. If a reporting entity has determined that is required to file such a report, there is no additional burden in determining that no report is required under Request No. 4. If the reporting entity has determined that it need not submit a report under Request No. 2 or Request No. 3, then the reporting entity need only fill in the month and the year for which the report is submitted under Request No. 4, which the agency estimates should not take more than 15 minutes per month. The agency therefore declines to amend the reporting requirements set forth in Request No. 4.

Comments Regarding the Incident Report Form

The General Order requires that reporting entities submit incident reports using a standard Incident Report Form, an image of which is attached to the General Order as Appendix C. Pursuant to an August 5, 2021 amendment to the General Order, the Incident Report Form was converted into an interactive web-based form, and all incident reports are now required to be submitted through a dedicated portal. Reporting entities use the same 1-page Incident Report Form for filing reports required to be submitted under Request Nos 1, 2, 3, and 4. To minimize the burden associated with this 1-page form, much of the information is entered through drop down menus, and the interactive form eliminates the need to submit information that is unnecessary or not applicable due to the nature of the report or a prior answer. A “narrative” section requires a free text description of the accident and also permits the reporting entity to enter any additional information it believes is important for context.

Several comments were submitted that suggested changes to the form. The agency likewise has made minor clarifying changes to the form, none of which is expected to impact the burden associated with completing the form.

The current version of the form includes a question about whether the subject vehicle was, at the time of the incident, operating within its operating design domain (ODD) and the highest level of automation (SAE Levels 2, 3, 4, or 5) with which the vehicle was equipped. To avoid any confusion, this question will be divided into three separate questions: (1) Whether the vehicle was operating within its ODD at the time of the crash; (2) whether the vehicle was equipped with ADS; and (3) whether the ADS was engaged at the time of or immediately prior to the crash. Each reporting entity will be required to answer each of these questions via a drop-down menu. Reporting entities will have the option of designating their response to the first question as confidential business information, but they will not be able to designate their response to the second or third questions as confidential business information.⁹ The agency does not believe this change adds any burden associated with filling out the incident report form.

⁹ NHTSA has determined that the information required by the second and third questions does not include any potential CBI exempt from public disclosure under either the Safety Act (49 U.S.C. 30167(a)) or the Freedom of Information Act (5 U.S.C. 552(b)(4)). The nature of the vehicle information required by these questions (whether the vehicle was equipped with ADS and whether the ADS was engaged at the time of or immediately prior to the crash) is generally made public by commercial entities, law enforcement agencies, and NHTSA. NHTSA, therefore, will not keep this information confidential, intends to make it publicly available, and is providing no assurance to reporting entities to the contrary. See Food Marketing Inst. v. Argus Leader Media, 139 S. Ct. 2356, 2363 (2019).

The Self-Driving Coalition submitted comments suggesting that the incident report form should be modified to change the question regarding “Highest Injury Severity” to “Highest Injury Severity Alleged” to reflect the unverified nature of this information. The agency agrees with this comment and intends to modify the form to incorporate this change.

AUVSI submitted comments suggesting that the incident report form should be amended to permit reporting entities to designate reportable crashes as preventable or not-preventable and that data from crashes designated as not-preventable should not be included in any aggregate data that is publicly released by the agency. The agency disagrees with this suggested change, which is contrary to the nature and purpose of the General Order.

Comments Regarding Crashes for Which Multiple Reporting Entities are Required To Submit Reports

The General Order requires each reporting entity with notice of a crash meeting the specified criteria to submit an incident report. Because the General Order includes vehicle manufacturers, vehicle operators, and ADS and Level 2 ADAS developers (equipment manufacturers), the agency expects that, for certain crashes, multiple entities may be required to submit incident reports. For example, both a third-party operator and an ADS developer are likely to have notice of a crash involving a vehicle from the developer's test fleet that is being operated by the operator. Likewise, in other circumstances, both an ADS developer and a vehicle manufacturer are likely to receive notice of a crash due to commercial relationships. The agency established these reporting requirements intentionally, both because there is value in collecting information from different entities with different perspectives relating to a crash and because, under some circumstances, one entity might receive notice of a crash before the other entity.

Multiple commenters, including the Self-Driving Coalition, MEMA, CTA, Auto Innovators, and C_TEC were submitted suggesting that these “duplicate” reports are unnecessary and unduly burdensome. These comments state that there is no incremental value to collecting the same information from multiple sources and that coordinating the filing of these reports among multiple entities is unnecessarily burdensome. These comments further state that this burden could be lessened by permitting multiple entities to designate a “primary” report filer or by permitting one entity to “tag” others in its report to eliminate the need for these other reporting entities to file separate reports.

The agency does not believe, as some of these comments assert, that the General Order's current reporting requirements are “unnecessarily duplicative of information otherwise reasonably accessible to the agency.” 5 CFR 1320.9(b). Instead, these reporting requirements reflect the reality that one reporting entity may have different information than another reporting entity or receive notice of that information at a different time than another reporting entity. The fact that some or even all this information may be the same for multiple entities with respect to a given crash does not make the reporting requirements unnecessarily duplicative.

The agency is concerned that any modification of these reporting requirements that allows one reporting entity to tag others or allows multiple reporting entities to designate a primary reporting entity would, for the reasons explained above, frustrate the objectives of these reporting requirements. Any such modification could also create significant enforcement issues if, for example, the agency learned that crash information about which one reporting entity had notice was not included in the incident report filed by another reporting entity that tagged the others or had been designated by others as primary.

The agency also believes that the burden concerns expressed in the comments on this issue are over-stated and that the proposed modifications would not materially reduce the resulting burden. If, as these comments suggest, multiple reporting entities are coordinating the review, analysis, and reporting of crash information about which they receive notice prior to filing their respective reports, all of this activity would still be necessary even if one of these reporting entities tagged others or was designated as primary by others. Under these circumstances, the only reduction in burden would be that the tagged or non-primary reporting entities would no longer have to complete the administrative task of filling out and submitting the 1-page incident report form. The current reporting structure is likewise appropriate for the reporting entities that are not coordinating their efforts to ensure the agency receives timely and complete information. Nonetheless, the agency will continue to review this issue and consider ways to reduce resulting burdens as appropriate. The agency has the benefit of these comments if it determines that any changes to the existing reporting requirements are appropriate.

Comments Regarding Unique Burdens for Vehicle Suppliers

The list of responsible parties included with the General Order includes several “vehicle suppliers,” companies that supply various components that are then integrated into completed vehicles, ADS, or Level 2 ADAS, by other vehicle or equipment manufacturers. Comments submitted by MEMA and Auto Innovators suggested that the General Order places unique and excessive burdens on these companies because, according to these comments, they are required to conduct an ongoing search for reportable crashes involving vehicles, ADS, or Level 2 ADAS that might involve a component or system they supplied and then investigate at length to determine whether they have a reporting obligation. These comments suggest that this alleged disproportionate burden on these vehicle suppliers can and should be reduced by limiting their reporting obligations to vehicles in their own test fleet, by amending the definition of “vehicle equipment” to eliminate any reference to software or components, and by clarifying the definition of “Level 2 ADAS.”

The agency first notes that it did not include any of these companies in the General Order because they supply components that are incorporated into completed vehicles, ADS, or Level 2 ADAS. Instead, the agency included these companies in the General Order because the agency understands that each of them is already or shortly will be actively involved in the development of ADS and/or Level 2 ADAS, including testing that involves vehicles equipped with these systems being driven on publicly-accessible roads in the United States.¹⁰

¹⁰ If the agency's understanding is not correct with respect to any specific reporting entity, it encourages that company to contact NHTSA (the General Order includes appropriate contact information) to discuss whether it should remain in the General Order.

The agency also disagrees with these comments, which appear to be based on a misunderstanding of the reporting requirements in the General Order and overstate the resulting burden. As previously noted, the reporting obligations under the General Order are triggered by notice of facts sufficient to meet each of the reporting criteria. For mass-produced consumer vehicles equipped with Level 2 ADAS (which appears to be the focus of these comments and the source of this alleged burden), a reporting entity has an obligation to report a crash only if it receives notice of information that satisfied each of the following criteria: (1) An ADS or Level 2 ADAS equipped vehicle for which it supplied components that were incorporated into the motor was involved in a crash; (2) the ADS or Level 2 ADAS was engaged during the period thirty seconds prior to and through the end of the crash; and (3) the crash involved a fatality, hospital treated injury, air bag deployment, vehicle tow-away, or vulnerable road user. The agency is unaware of any such report being filed by any vehicle supplier during the five months since the General Order was first issued.

There is no general or specific requirement that a reporting entity that is a manufacturer or supplier of brake pads, wiring harnesses, or lidar sensors actively search outside the company for potentially reportable crashes. Likewise, there is no requirement that any such reporting entity that learns of a crash involving a vehicle that includes a component it supplied actively investigate the crash to determine whether the other criteria have been met. Instead, a vehicle supplier (like every other reporting entity) that receives notice of information meeting each of the criteria must file a report. The agency expects that it would be extremely rare for any vehicle supplier to receive such notice unless it was significantly involved in developing, testing, or supplying an ADS or Level 2 ADAS, in which case the agency believes that the reporting requirement is appropriate.

The agency also notes that Level 2 ADAS (and perhaps, in the future, ADS) currently enter the consumer market in different forms, including after-market software and hardware components, which are then integrated with other existing vehicle components. Changing the definition of motor vehicle equipment as the comments suggests would, contrary to the agency's intent, eliminate these after-market systems from the scope of the General Order. For all these reasons, the agency therefore declines to modify the reporting requirements as suggested by these comments.

Comments on Confidential Business Information Designations

Under the terms of the General Order, a reporting entity that claims information it is submitting to the agency in an incident report form constitutes confidential business information is required to follow the agency's standard procedures for making such a claim. See 49 CFR Part 512. The Self-Driving Coalition and Auto Innovators submitted comments suggesting that the burden associated with making a separate submission for each incident report is excessive. These comments suggest that the agency either make a “class determination” that certain information is protected CBI or permit aggregated CBI submissions on a weekly or monthly basis to lessen this burden. These comments also suggest that the burden associated with CBI designations could be lessened if a reporting entity was able to file its CBI designations via the same portal established for filing incident report forms under the General Order.

The procedures for filing CBI designations are established by the agency's regulations rather than the General Order. See 49 CFR Part 512. Although these regulations include various “class determinations” (see, e.g., 49 CFR 512 Appendix C), the agency does not believe such a determination is appropriate with respect to information required to be submitted under the General Order. The five months of reporting history demonstrates that there is no consensus approach to whether reporting entities request CBI treatment for this information.

With respect to the comments regarding aggregated CBI requests or utilizing the portal to submit CBI requests, the agency is continually reviewing various procedures under the General Order to determine whether the resulting burden can be reduced. The agency will have the benefit of these comments as it considers whether any such changes are appropriate with respect to CBI requests.

Other Comments

Multiple commenters submitted comments stating that the agency should expand the General Order to also require reporting of incidents other than the specified crashes (e.g., traffic violations), suggesting different development approaches (e.g., the use of DoD/aerospace simulation and modeling technology) for advanced driving technologies, or offering “guiding principles” for the development and/or regulation of advanced driving technologies. The agency also received numerous comments expressing concern or offering suggestions regarding the way information submitted by reporting entities under the General Order will be made public and whether appropriate context will be provided with that information. The agency appreciates these comments and has reviewed them with interest, but it declines to address them in the context of this request for an extension of the existing approval of this information collection because they are not burden related.

Agency Estimates Regarding the Annual Number of Reports

In the 60-day Notice, NHTSA made various estimates regarding the number of incidents about which the reporting entities would be required to submit reports on an annual basis. Although those estimates were made based on the best information available to the agency at the time, the agency now has over five months of reporting data and history and is therefore able to substantially refine those estimates.

Level 2 ADAS 1-Day Incident Reports Under Request No. 1

In its 60-day Notice, NHTSA estimated that “it will receive responses from 20 respondents reporting Level 2 ADAS crashes each year,” “that each respondent will submit, on average, 170 incident reports per year,” and that it “will receive, on average 3,400 Level 2 ADAS incident reports each year.” The agency explained that this was “a high-end estimate” that would later be refined.

Although the agency received no comments directly addressing the estimate of 3,400 incident reports per year, several commenters used this estimate (without providing any alternative estimate) in support of arguments that the burden associated with these reports is excessive. With the benefit of actual reporting history and data, the agency is now able to substantially revise this estimate to 1,000 reports per year under Request No. 1 for Level 2 ADAS incidents.

As explained in more detail above, the agency also has decided to amend the reporting requirements in Request No. 1 to require that a report be filed within 1 calendar day only with respect to those crashes involving a fatality, a hospital-treated injury, or a vulnerable road user. Based on data of reported incidents through December 1, 2021, the agency estimates that only 8% of the reports required under Request No. 1 will meet one of these criteria. Accordingly, NHTSA now estimates it will receive 80 1-day Level 2 ADAS incident reports per year. Reporting entities will be required to submit the remainder of the reports (estimated to be 92% of the total) within 5 calendar days after notice of the crash.

Level 2 ADAS 5-Day Incident Reports Under Request No. 1

As discussed above, NHTSA is now allowing some of the reports that were previously required to be submitted within one calendar day to instead be submitted within 5 calendar days. The agency estimates that 92% of all Level 2 ADAS crashes will be submitted in 5-day incident reports. Accordingly, the agency now estimates that of the 1,000 Level 2 ADAS incident reports submitted each year, approximately 920 will be 5-day Level 2 ADAS incident reports.

Level 2 ADAS 10-Day Incident Reports Under Request No. 1

Under the current terms of the General Order, a reporting entity submitting an initial report within 1 calendar day under Request No. 1 is also required to submit an updated report on the tenth calendar day after notice of the crash. In its 60-day Notice, NHTSA therefore estimated the number of 10-day updated reports to be equal to the number of 1-day reports. As explained above, the agency has decided to amend Request No. 1 of the General Order to limit the 1-day and 10-day reporting sequence to crashes involving a fatality, a hospital treated injury, or a vulnerable road user. The agency estimates that 8% of the reports required under Request No. 1 will meet one of these criteria. No 10-day updated report therefore will be required for the remaining reports required under Request No. 1, an estimated 92% of those reports.

Based on its revised volume estimates and the forthcoming amendment to Request No. 1, the agency revises its estimate of the number of 10-day reports to 80 reports each year.

ADS 1-Day Incident Reports Under Request No. 1

In its 60-day Notice, NHTSA estimated that it would receive 200 incident reports per year involving ADS equipped vehicles. The agency further estimated that half of these reports (100) would be filed pursuant to the 1-day and 10-day sequence under Request No. 1 and that the remaining half of these ADS incident reports (100) would be submitted under Request No. 2 as monthly incident reports. With the benefit of five months of reporting experience and data, the agency is able to refine these estimates. NHTSA estimates that it will receive 150 ADS incident reports annually under Request No. 1. However, as a result of the amendment discussed above, not all of those reports will be required to be submitted within one calendar day. Based on the discussed criteria and the incident reports the agency has received thus far, NHTSA estimates that 20% of the reports will be required to be submitted within one calendar day. Accordingly, the agency now estimates that it will receive 30 1-day reports each year. Reporting entities would be required to submit the remainder of the reports within five calendar days of receiving notice.

ADS 5-Day Reports Under Request No. 1

As discussed above, NHTSA estimates that it will receive 150 ADS crash reports under Request No. 1 each year and that 20% of the reports will need to be submitted within one day and 80% will be required to be submitted within five calendar days. Accordingly, the agency estimates that it will receive 120 5-day ADS incident reports each year.

ADS 10-Day Update Reports Under Request No. 1

In its 60-day Notice, NHTSA estimated that the annual volume of 10-day updated ADS reports would be the same as the volume of 1-day ADS Reports because the General Order requires a 10-day updated report for each 1-day report. Based on the revised estimates and amendment discussed above, the agency revises its estimate of annual 10-day reports to 30 (the same number as the estimated annual 1-day ADS incident reports described above).

ADS Monthly Incident Reports Under Request No. 2

In its 60-day Notice, NHTSA estimated that it would receive 100 ADS monthly incident reports per year under Request No. 2. Based on the revised estimates described above, the agency revises this estimate to 200 ADS monthly incident reports per year.

Monthly Supplemental Incident Reports Under Request No. 3

A reporting entity is required to file a monthly supplemental report under Request No. 3 only if it receives notice of new material or materially different information regarding a crash for which a report was previously submitted under Request Nos. 1 or 2. In its 60-day Notice, NHTSA estimated that it would receive 25 ADS and 170 Level 2 ADAS monthly supplemental reports per year. With the benefit of 5 months of reporting experience, the agency revises this estimate to 40 ADS and 75 Level 2 ADAS supplemental reports each month.

Monthly Reports Under Request No. 4

In the absence of any new or supplemental reports due under Request No. 2 and Request No. 3, each reporting entity is required to submit an Incident Report confirming the lack of any reportable information under those requests on the fifteenth (15th) calendar day of each month. In its 60-day Notice, NHTSA estimated that 80% of the reporting entities each month will submit a report under Request No. 4. Based on an average of 110 total reporting entities per year, the agency estimates that it will receive 1,056 reports annually under Request No. 4.

The total burden and cost estimates set forth below have been revised consistent with these revised annual volume estimates.

Hourly Burden Estimates

NHTSA received three comments, from Auto Innovators, MEMA, and the Self-Driving Coalition, stating that the agency underestimated the burden hours associated with the different reporting requirements. These comments and the agency's responses to these comments are discussed in more detail in the section below explaining NHTSA's burden calculations.

Labor Cost Estimates

In its 60-day Notice, NHTSA explained that it had estimated the total labor costs associated with burden hours by looking at the average wage for architectural and engineering managers in the motor vehicle manufacturing industry (Standard Occupational Classification # 11-9041). The Bureau of Labor Statistics (BLS) estimates that the average hourly wage for this occupational classification is $65.62 and estimates that private industry workers” wages represent 70.4% of total labor compensation costs. Therefore, the agency estimated the hourly labor costs to be $93.21.

Auto Innovators submitted comments stating that the agency, as part of its burden analysis, had underestimated the hourly cost of the labor required to meet the reporting obligations in the order. This same commenter suggested that, given the managerial and legal review and oversight involved in this information collection, a more realistic hourly labor cost is $120.00. In response to this comment, NHTSA is revising its estimate of the labor costs associated with burden hours, as discussed in the section discussing NHTSA's burden estimates.

Affected Public: Vehicle and equipment manufacturers and operators of ADS or Level 2 ADAS equipped vehicles.

Estimated Number of Respondents: 110.

Frequency: Monthly and on occasion.

Number of Responses: 2,631.

Estimated Total Annual Burden Hours: 31,319 hours.

As discussed above, NHTSA is making changes to the General Order that will affect the total burden hours. The agency also has acquired new information that allows the agency to estimate burdens more accurately. To estimate the burden associated with this information collection, the agency separated the requirements of the General Order into thirteen components: (1) Incident reports under Request No. 1 involving Level 2 ADAS that must be submitted within one calendar day; (2) updates under Request No. 1 to 1-day incident reports involving Level 2 ADAS that must be submitted within ten calendar days; (3) incident reports under Request No. 1 involving Level 2 ADAS that must be submitted within five calendar days; (4) incident reports under Request No. 1 involving ADS that must be submitted within one calendar day; (5) updates under Request No. 1 to incident 1-day reports involving ADS that must be submitted within ten calendar days; (6) incident reports under Request No. 1 involving ADS that must be submitted within five calendar days; (7) monthly incident reports under Request No. 2 involving ADS that must be submitted on the fifteenth of the following month; (8) monthly supplemental reports under Request No. 3 involving Level 2 ADAS incidents that must be submitted on the fifteenth of the following month; (9) monthly supplemental reports under Request No. 3 involving ADS that must be submitted on the fifteenth of the following month; (10) monthly reports under Request No. 4 confirming the lack of reportable information under Requests No. 2 and No. 3, (11) additional time for screening incoming information; (12) training employees on the requirements; and (13) time to set up an account to submit the reports. The burden associated with categories (12) and (13) are one-time start-up burdens that will be incurred during the proposed extension only to the extent that new reporting entities are added to the General Order during this period. For the 108 reporting entities currently named in the General Order, this burden has already been and was accounted for under the currently approved information collection request.

The estimated number of respondents consists of the number of reporting entities.

NHTSA estimates that there will be an average of 110 reporting entities during each year of the proposed extension. Currently, there are 108 reporting entities named in the General Order. The agency believes that additional reporting entities will be added to the General Order during the proposed extension as new companies enter the market and begin developing and manufacturing ADS and ADAS technology and vehicles equipped with these technologies. The agency also believes that some existing reporting entities will be removed from the General Order due to the cessation of operations or market consolidation.

Burden Category 1: ADAS 1-Day Reports under Request No. 1.

To estimate the burden associated with submitting Level 2 ADAS crash reports, NHTSA first looked to the category of crashes that must be reported. As explained above, the agency has decided to amend the General Order to only require reporting of Level 2 ADAS crashes within one business day when (1) the crash occurred on a publicly accessible road in the United States (including any of its territories); (2) the Level 2 ADAS was engaged at any time during the period from 30 seconds immediately prior to the commencement of the crash through the conclusion of the crash; and (3) the crash resulted in a fatality, a hospital treated injury, or involved a vulnerable road user. Incidents meeting the first two criteria and also involving a vehicle tow-away or an air bag deployment, but not involving a fatality, hospital treated injury, or vulnerable road user will be required to be reported within five calendar days.

As discussed above and based on five months of incident reporting under the existing clearance, NHTSA estimates that it will receive approximately 80 1-day Level 2 ADAS incident reports each year. Based on the number of manufacturers that manufacture vehicles equipped with Level 2 ADAS systems, the agency estimates that it will receive responses from 20 respondents reporting Level 2 ADAS crashes each year.

In the 60-day Notice, NHTSA estimated that it would take respondents approximately 2 hours to compile and submit each crash report. The agency received comments from Auto Innovators, MEMA, and the Self-Driving Coalition stating that NHTSA had underestimated the burden hours for the reporting requirements. Specifically, Auto Innovators stated that a more accurate estimate would be 8 hours for each 1-day incident report. The Self-Driving Coalition also provided estimates of the burden hours for 1-day reports (between 5 and 12 hours), but since the estimates were provided for ADS 1-day reports, NHTSA is using the estimate provided by Auto Innovators. NHTSA now estimates that 1-day reports takes, on average, 8 hours. Therefore, the agency estimates the total annual burden hours for submitting Level 2 ADAS 1-day crash reports to be 640 hours (8 hours × 80 crash reports) for all manufactures. Therefore, the average burden for the estimated 20 manufacturers submitting 1-day ADAS incident reports is estimated to be 32 hours.

Burden Category 2: ADAS 10-Day Reports Under Request No. 1.

As discussed above, in addition to submitting information on certain Level 2 ADAS crashes within one day, reporting entities must also submit updated information within ten days. NHTSA has decided to only require 10-day update reports for incidents required to be reported within one calendar day. In the 60-day notice, NHTSA estimated that providing updated crash reports would take approximately 1 hour per report. However, both Auto Innovators and the Self-Driving Coalition submitted comments stating that NHTSA underestimated the burden for submitting the reports. Auto Innovators stated that a reasonable mid-point in the burden estimates from members would be 20 hours to submit these updates and the Self-Driving Coalition stated that it would take between 3 and 24 hours, depending on the complexity of the incident. Since the Self-Driving Coalition's comments were specific to ADS reporting, NHTSA is revising its estimate based on the Auto Innovators” comment and now estimating that providing an updated 10-day report will take 20 hours. Therefore, the agency estimates that the total burden for submitting 10-day update reports for Level 2 ADAS incidents will take 1,600 hours (20 hours × 80 reports), for an average of 80 hours for each of the 20 reporting entities expected to submit reports each year.

Burden Category 3: ADAS 5-Day Reports Under Request No. 1.

To estimate the burden associated with submitting Level 2 ADAS 5-day crash reports, NHTSA first looked to the category of crashes that must be reported. As explained above, the agency has decided to amend the General Order to require 5-day reporting of Level 2 ADAS crashes when (1) the crash occurred on a publicly accessible road in the United States (including any of its territories); (2) the Level 2 ADAS was engaged at any time during the period from 30 seconds immediately prior to the commencement of the crash through the conclusion of the crash; and (3) and the crash involves a vehicle tow-away or an air bag deployment, but not a fatality, hospital treated injury, or vulnerable road user. As discussed above and based on five months of incident reporting under the existing clearance, the agency estimates that it will receive approximately 920 5-day Level 2 ADAS incident reports each year. Based on the number of reporting entities that manufacture Level 2 ADAS or vehicles equipped with Level 2 ADAS systems, the agency estimates that it will receive responses from 20 respondents reporting Level 2 ADAS crashes each year.

In the 60-day notice, NHTSA estimated that it would take respondents approximately 2 hours to compile and submit each 1-day crash report. The agency received comments from Auto Innovators, MEMA, and the Self-Driving Coalition stating that NHTSA had underestimated the burden hours for the reporting requirements. Specifically, Auto Innovators stated that the average submission would take 8 hours for each 1-day incident report. The Self-Driving Coalition also provided estimates of the burden for 1-day incident reports (between 5 and 12 hours) for ADS 1-day reports. NHTSA also received comments from Auto Innovators and the Self-Driving Coalition that stated that updated reports may take longer to submit than initial reports.

Because reporting entities will not be required to submit 10-day update reports for incidents required to be submitted to NHTSA within five business days, and because after five days more information may be available for review, the agency is basing its estimate of burden for 5-day reports off the burden estimates provided by commenters for the 10-day update report. Auto Innovators stated that a reasonable mid-point in the burden estimates from members would be 20 hours to submit updates and the Self-Driving Coalition stated that it would take between 3 and 24 hours, depending on the complexity of the incident. Because the Self-Driving Coalition's comments regarding burden were specifically for ADS crash reporting, NHTSA believes it is appropriate to use different burden estimates for Level 2 ADAS reporting and ADS reporting. Based on the comments, it appears that larger manufacturers reporting on Level 2 ADAS reports will require more time to submit 5-day reports than smaller entities submitting 5-day reports for ADS crashes. Therefore, NHTSA has decided to change its estimate based on the mid-point estimate provided by Auto Innovators. Accordingly, the agency estimates that 5-day reports takes, on average, 20 hours. Therefore, the agency estimates the total annual burden hours for submitting Level 2 ADAS 5-day crash reports to be 18,400 hours (20 hours × 920 crash reports) for all reporting entities for an average of 920 hours for each of the estimated 20 reporting entities submitting 5-day incident reports.

Burden Category 4: ADS 1-Day Reports Under Request No. 1.

As discussed above, NHTSA now estimates that it will receive 30 ADS 1-day incident reports each year. In the 60-day notice, NHTSA estimated that it would take respondents approximately 2 hours to compile and submit each crash report. The agency received comments from Auto Innovators, MEMA, and the Self-Driving Coalition stating that the agency had underestimated the burden hours for the reporting requirements. Specifically, Auto Innovators stated that a more accurate estimate would be 8 hours for each 1-day incident report and the Self-Driving Coalition stated that 1-day reports take between 5 and 12 hours. Based on these comments, the agency now estimates that 1-day reports takes, on average, 8 hours. Therefore, the agency estimates the total annual burden hours for submitting ADS 1-day crash reports to be 240 hours (8 hours × 30 crash reports) for all manufactures. Based on the five months of reporting experience, the agency believes that some respondents with ADS 1-day reports will file multiple reports. At this time, the agency estimates that the 30 1-day reports will be submitted by 20 manufacturers, for an average of 12 hours per respondent.

Burden Category 5: ADS 5-Day Reports under Request No. 1.

As discussed above, NHTSA now estimates that it will receive 120 ADS 1-day incident reports each year. In the 60-day notice, NHTSA estimated that it would take respondents approximately 2 hours to compile and submit each 1-day crash report. The agency received comments from Auto Innovators, MEMA, and the Self-Driving Coalition stating that NHTSA had underestimated the burden hours for the reporting requirements. Specifically, Auto Innovators stated that a more accurate estimate would be 8 hours for each 1-day incident report and the Self-Driving Coalition stated that 1-day reports take between 5 and 12 hours. The agency also received comments from Auto Innovators and the Self-Driving Coalition stating that updated reports may take longer to submit than initial reports. Because reporting entities will not be required to submit 10-day update reports for incidents required to be submitted to the agency within five business days, and because after five days more information may be available for review, the agency is basing its estimate of burden for 5-day reports off the burden estimates provided by commenters for the 10-day update report. Auto Innovators stated that it would take 20 hours to submit updates and the Self-Driving Coalition stated that it would take between 3 and 24 hours, depending on the complexity of the incident. Because the agency estimates that information will be more readily accessible to reporting entities for incidents involving ADS, NHTSA estimates that 5-day reports take, on average, 14 hours (based on the mid-point between 3 and 24 hours). Therefore, the agency estimates the total annual burden hours for submitting ADS 5-day crash reports to be 1,680 hours (14 hours × 120 crash reports) for all reporting entities. Based on the number of respondents that have submitted ADS reports under the General Order thus far, the agency estimates that it will receive ADS 5-day reports from an average of 40 entities each year. Therefore, the average annual burden per reporting entity is estimated to be 42 hours.

Burden Category 6: ADS 10-Day Reports under Request No. 1.

As discussed above, in addition to submitting information on certain ADS crashes within one day, reporting entities must also submit updated information within ten days. NHTSA has decided to only require 10-day update reports for incidents required to be reported within one calendar day. In the 60-day notice, NHTSA estimated that providing updated crash reports would take approximately 1 hour per report. However, both Auto Innovators and the Self-Driving Coalition submitted comments stating that the agency underestimated the burden for submitting the reports. Auto Innovators stated that it would take 20 hours to submit updates and the Self-Driving Coalition stated that it would take between 3 and 24 hours, depending on the complexity of the incident. Because the agency estimates that information will be more readily accessible to reporting entities for incidents involving ADS, NHTSA estimates that 5-day reports take, on average, 14 hours (based on the mid-point between 3 and 24 hours). Therefore, the agency estimates that the total burden for submitting 10-day update reports for ADS incidents to be 420 hours for all ADS manufacturers and operators (14 hours × 30 crash reports). As discussed above, the agency estimates that it will receive one-day ADS incident reports from 20 respondents each year. Therefore, the agency estimates that the annual burden is, on average, 21 hours per respondent.

Burden Category 7: Monthly ADS Incident Reports Under Request No. 2.

As described above, NHTSA now estimates that there will be 200 ADS crash reports required to be submitted on the fifteenth of the month following the month in which notice of the crash was received. In the 60-day notice, NHTSA estimated that preparing and submitting monthly reports that contain crash reports takes, on average, 2 hours to prepare and submit. However, the agency received a comment from the Self-Driving Coalition stating that the actual burden for this can be between 2 and 24 hours. Based on this comment, NHTSA now estimates that the burden associated with preparing and submitting initial ADS crash report information that will be submitted in monthly reports to be 14 hours per report, for a total of 2,800 hours (14 hours × 200 reports). Based on the number of respondents that have submitted ADS crash report information, the agency estimates that it will receive reports from approximately 50 entities each year, for an average of 56 hours per entity.

Burden Category 8: ADAS Supplemental Reports Under Request No. 3.

In addition to submitting information about new ADS crashes in monthly reports, respondents also are required to submit updated information in the following month if any new material or materially different information about any Level 2 ADAS incident is received. In its 60-day notice, NHTSA estimated that it would receive 170 ADAS monthly supplemental reports per year. With the benefit of 5 months of reporting experience, the agency revises this estimate to 75 supplemental ADAS reports each year. In the 60-day notice, NHTSA estimated that providing updated information within a monthly report would take 1 hour. The agency received comments indicating that it had underestimated burden, but it did not receive specific comments on the time spent submitting a supplemental report on the fifteenth of the month following the month in which it received any material new or materially different information. The agency believes that submitting a supplemental report should take less time that submitting an initial report or a ten-day update report. However, the agency concedes that reporting entities may require more time for internal review than 1 hour. Accordingly, the agency now estimates that preparing and submitting supplemental reports takes, on average, 5 hours. Therefore, the agency estimates the burden for monthly reports with updated information to be 375 hours (75 monthly reports × 5 hours). The agency estimates that it will receive, on average, supplemental Level 2 ADAS monthly reports from 20 respondents each year, for an average of 18.75 hours per respondent.

Burden Category 9: ADS Supplemental Reports Under Request No. 3.

In addition to submitting information about new ADS crashes in monthly reports, respondents also are required to submit updated information in the following month if any new material or materially different information about any ADS incident is received. In its 60-day notice, NHTSA estimated that it would receive 25 ADS monthly supplemental reports per year. With the benefit of 5 months of reporting experience, the agency revises this estimate to 40 supplemental ADS reports each year. In the 60-day notice, NHTSA estimated that providing updated information within a monthly report would take 1 hour. The agency received comments indicating that it had underestimated burden, but it did not receive specific comments on the time spent submitting a supplemental report on the fifteenth of the month following the month in which it received any material new or materially different information. The agency believes that submitting a supplemental report should take less time than submitting an initial report or a ten-day update report. However, the agency concedes that reporting entities may require more time for internal review than 1 hour. Accordingly, the agency now estimates that preparing and submitting supplemental reports takes, on average, 5 hours. Therefore, the agency estimates the burden for monthly reports with updated information to be 200 hours (40 monthly reports × 5 hours). The agency estimates that it will receive, on average, monthly reports from 25 respondents each year, for an average of 8 hours per respondent.

Burden Category 10: Monthly Reports under Request No. 4.

A reporting entity that determines it has no information reportable under Request Nos. 2 and 3 is required to submit a report confirming the lack of any such reportable information. The hourly burden associated with submitting a monthly report under Request No. 4 is minimal. The reporting entity need only select the proper type of report, identify the date and month for which the report is being submitted, and then submit the report.

In the 60-day notice, NHTSA estimated that the burden for ADS manufacturers and operators associated with preparing and submitting any monthly reports to be 15 minutes. The agency received one comment from the Self-Driving Coalition that confirmed that 15 minutes was accurate for its members. The agency estimated that burden for ADAS manufacturers associated with preparing and submitting any monthly reports would be 2 hours. The agency received a comment from Auto Innovators stating that monthly reports under Request No. 4 take respondents 20 hours to prepare and submit.

NHTSA does not agree that submitting a report under Request No. 4 (confirming the lack of information reportable under Request Nos. 2 and 3) will take 20 hours. The agency believes that reporting entities should not have any additional burden associated with confirming that they do not have reportable information. Instead, NHTSA believes that respondents have screening processes to ensure they are meeting their requirements to submit reports under Requests Nos. 1, 2, and 3 under the General Order. NHTSA believes that adequate screening processes should ensure that there is no additional burden associated with monthly reports under Request 4. However, as mentioned by some of the commenters, the agency did not estimate any ongoing burden for enhanced screening processes. In response, NHTSA is creating a new category of burden to account for any screening that is incurred in response to the General Order and is not part of reporting entities' standard operating practices.

In its 60-day Notice, NHTSA estimated that 80% of the reporting entities each month will submit a report under Request No. 4. Based on five months of reporting under the General Order, NHTSA continues to estimate that 80% of reporting entities will submit a report under Request No. 4 each month. Based on an average of 110 total reporting entities per year, the agency estimates that it will receive 1,056 reports annually under Request No. 4.

Accordingly, NHTSA estimates that preparing and submitting a monthly report under Request No. 4 will take 15 minutes for the estimated 90 ADS reporting entities and the estimated 20 manufacturers of Level 2 ADAS vehicles each year (including manufacturers that produce both Level 2 ADAS vehicles and ADS vehicles). Therefore, the agency estimates that annually respondents will spend 264 hours preparing and submitting monthly reports under Request No. 4, not including burden associated with providing new or updated reportable information (110 respondents × .8 × 12 monthly reports × 0.25 hours).

Burden Category 11: Additional Screening.

As discussed above, and in response to comments, NHTSA is adding a new category for screening. NHTSA received comments from both the Self-Driving Coalition and Auto Innovators regarding uncounted burden. Specifically, Auto Innovators stated that NHTSA had not counted burden for monitoring for new crashes and the Self-Driving Coalition stated that NHTSA had not included time spent reviewing incidents that occur but are not reportable. In response to these comments, NHTSA is adding a new burden category for additional time spent screening incoming information. The additional time allotted for screening accounts for any additional processes reporting entities have needed to put in place to ensure that they are meeting their reporting requirements under the General Order. This time does not account for screening of incidents that reporting entities conducted as part of its standard business practices prior to the General Order. Although NHTSA did not receive comments about the amount of additional burden respondents will incur, NHTSA believes that the Auto Innovator's comment regarding burden for “no reportable information” monthly reports provides an indication of the additional time some entities spend each month ensuring that they are meeting their reporting obligations. Specifically, Auto Innovators provided a monthly average estimate of 20 burden hours. Since manufacturers and operators of ADS-equipped vehicles and equipment already had robust processes for identifying and analyzing crashes that might occur with these vehicles, NHTSA estimates that the additional screening burden will only be incurred by entities reporting on Level 2 ADAS crashes, as those reports largely involve crashes in the consumer fleet. Accordingly, the agency estimates that the estimated 20 entities reporting on Level 2 ADAS incidents have, on average, 20 hours of additional screening time per month, for a total of 4,800 hours a year (20 hours × 12 months × 20 respondents), or 240 hours per reporting entity.

Burden Category 12: Training employees on the reporting requirements.

In addition to the burden associated with preparing and submitting reports, any new reporting entities added to the General Order are also expected to incur burden associated with training employees on the reporting requirements. As explained above, the existing 108 reporting entities named in the General Order will not incur this burden during the requested extension because they have already trained their employees. NHTSA estimates that there will be an average of seven new reporting entities added to the General Order each year during the proposed extension, that an average of five of these new reporting entities will be ADS manufacturers or operators and that an average of two of these new reporting entities will be Level 2 ADAS manufacturers.

The agency expects that ADS manufacturers and operators normally monitor all crashes and, therefore, will not need to train personnel on how to respond to this new information collection. NHTSA does expect, however, that some Level 2 ADAS manufacturers may need to spend time training personnel on the requirements. Although the amount of time may vary by manufacturer, NHTSA estimates that, on average, the two Level 2 ADAS manufacturers will spend 40 hours on training. Therefore, NHTSA estimates the total annual burden for training to be 80 hours (2 manufacturers × 40 hours).

Burden Category 13: Time to set up an account to submit the reports.

NHTSA also estimates that new responding entities added to the General Order during the proposed extension period will need to set up a new account with the agency to allow them to submit reports. NHTSA estimates that each of the estimated average of 10 responding entities added to the General Order annually need to set up new accounts with the agency. NHTSA estimates that setting up an account will take 2 hours. Therefore, the agency estimates the total annual burden to be 20 hours.

NHTSA estimates the total annual burden hours for the thirteen components of this ICR to be 31,319 hours (640 hours for initial one-day Level 2 ADAS reports, 1,600 hours for updated one-day Level 2 ADAS reports, 18,400 hours for five-day Level 2 ADAS reports, 240 hours for initial one-day ADS reports, 420 hours for updated ADS reports, 1,680 hours of five-day ADS reports, 2,600 hours for monthly initial ADS reports, 375 hours for monthly supplemental Level 2 ADAS reports, 200 hours for monthly supplemental ADS reports, 264 hours for “no reportable information” monthly reports, 4,800 for additional screening, 80 hours for training, and 20 hours for setting up accounts). This revised estimate reflects five months of crash reporting experience under the existing clearance, which allows the agency to refine and better estimate the annual volumes of different types of reports it will receive. This revised estimate also reflects the agency's adoption of commenters’ estimates of the hours required for individual burden tasks. Although the agency believes that the commenters’ estimates may represent the high end of the range of burden hours for respondents, and not the average, the commenters’ estimates are the best data currently available to the agency. Table 1 provides a summary of the estimated burden hours.

Table 1—Burden Hour Estimates
Description of burden category (this ICR is for one IC) | Number of responses | Number of respondents | Estimated burden per response | Burden per respondent (hours) | Total burden hours
Level 2 ADAS one-day reports, initial Request No. 1 | 80 | 20 | 8 hours | 32 | 640
Level 2 ADAS one-day reports, update Request No. 1 | 80 | 20 | 20 hours | 80 | 1,600
Level 2 ADAS five-day reports Request No. 1 | 920 | 20 | 20 hours | 920 | 18,400
ADS one-day reports, initial Request No. 1 | 30 | 20 | 8 hours | 12 | 240
ADS one-day reports, update Request No. 1 | 30 | 20 | 14 hours | 21 | 420
ADS five-day reports Request No. 1 | 120 | 40 | 14 hours | 42 | 1,680
Monthly Report-Initial ADS Request No. 2 | 200 | 50 | 13 hours | 52 | 2,600
Monthly Report-Level 2 ADAS Supplemental Request No. 3 | 75 | 20 | 5 hours | 18.75 | 375
Monthly Report-ADS Supplemental Request No. 3 | 40 | 25 | 5 hours | 8 | 200
Monthly Reports-No reportable Information Request No. 4 | 1,056 | 110 | 15 minutes | 3 | 264
Additional Screening | 0 | 20 | 240 hours | 240 | 4,800
Training | 0 | 2 | 40 hours | 40 | 80
Setting Up Account | 0 | 10 | 2 hours | 2 | 20
Total for ICR: Level 2 ADAS/ADS Incident Reporting | 2,631 | 110 | 11.90 hours | 284.72 | 31,319

In the 60-day notice, NHTSA calculated the burden associated with the labor hours using the average wage for architectural and engineering managers in the motor vehicle manufacturing industry (Standard Occupational Classification # 11-9041). NHTSA received one comment, from Auto Innovators, stating that the labor cost estimate was too low, and that a labor cost of at least $120 per hour was more realistic. In response to this comment, NHTSA has reexamined its estimate and adjusted its estimates recognizing that there are multiple wage categories involved with the labor hours. Specifically, NHTSA is now allocating the burden hours across four labor categories: Architectural and engineering managers in the motor vehicle manufacturing industry (Standard Occupational Classification # 11-9041); engineers (Standard Occupational Classification # 17-2000); Computer and Information Systems Managers (Standard Occupational Classification # 11-3021); and Lawyers (Standard Occupational Classification # 23-1000).

To calculate the labor cost associated with preparing and submitting crash reports and monthly reports, training, and setting up new accounts, NHTSA looked at wage estimates for the type of personnel involved with these activities. NHTSA estimates the total labor costs associated with these burden hours by looking at the seventy-fifth percentile wage for architectural and engineering managers, computer and information systems managers, and engineers in the motor vehicle manufacturing industry and the seventy-fifth percentile wage for lawyers.¹¹ The Bureau of Labor Statistics estimates that private industry workers” wages represent 70.4% of total labor compensation costs.¹² Therefore, NHTSA has weighted the wages accordingly. Table 2 provides an hourly labor cost estimate for each labor category.

¹¹ See May 2020 National Industry-Specific Occupational Employment and Wage Estimates, NAICS 336100—Motor Vehicle Manufacturing, available at https://www.bls.gov/oes/current/naics4_336100.htm#15-0000 (accessed December 17, 2021) and May 2020 National Occupational Employment and Wage Estimates, available at https://www.bls.gov/oes/current/oes_nat.htm (accessed December 17, 2021).

¹² See Table 1. Employer Costs for Employee Compensation by ownership (Mar. 2021), available at https://www.bls.gov/news.release/ecec.t01.htm (accessed December 17, 2021).

Table 2—Hourly Labor Costs
Labor category | Wage | Hourly labor cost
Computer and Information System Managers (11-13021) in the Motor Vehicle Manufacturing Industry (75th percentile) | $89.94 | $127.76
Architectural and Engineering Managers (11-9041) in the Motor Vehicle Manufacturing Industry (75th percentile) | 77.37 | 109.90
Engineers (17-2000) in the Motor Vehicle Manufacturing Industry (75th percentile) | 54.32 | 77.16
Lawyers (23-1011) (75th percentile) | 91.11 | 129.42

Using the hourly labor cost estimates above, NHTSA estimates that the total labor costs associated with the 31,319 hours is $3,290,351.24.

Table 3 provides a summary of the estimated labor costs.

Table 2—Labor Cost Estimates
Description of information collection component | Total hours and labor cost per response for computer and information system managers (11-13021) | Total hours and labor cost per response for architectural and engineering managers (11-9041) | Total hours and labor cost per response for engineers (17-2000) | Total hours and labor cost per response for lawyers (23-1011) | Total labor cost per response | Total labor cost
Level 2 ADAS one-day reports, initial | 1 hour, $127.76 | 2 hours, $219.80 | 3 hours, $231.48 | 2 hours, $258.84 | $837.88 | $67,030.40
Level 2 ADAS one-day reports, update | 1 hour, $127.76 | 6 hours, $659.40 | 7 hours, $540.12 | 6 hours, $776.52 | 2,103.80 | 168,304.00
Level 2 ADAS five-day reports | 1 hour, $127.76 | 6 hours, $659.40 | 7 hours, $540.12 | 6 hours, $776.52 | 2,103.80 | 1,935,496.00
ADS one-day reports, initial | 1 hour, $127.76, | 2 hours, $219.80 | 3 hours, $231.48 | 2 hours, $258.84 | 837.88 | 25,136.40
ADS one-day reports, update | 1 hour, $127.76 | 4 hours, $439.60 | 5 hours, $385.80 | 4 hours, $517.68 | 1,470.84 | 44,125.20
ADS five-day reports | 1 hour, $127.76 | 4 hours, $439.60 | 5 hours, $385.80 | 4 hours, $517.68 | 1,470.84 | 176,500.80
Monthly Report-Initial ADS | 1 hour, $127.76 | 3 hours, $329.70 | 6 hours, $540.12 | 3 hours, $388.26 | 1,385.84 | 277,168.00
Monthly Report-Level 2 ADAS Supplemental | 1 hour, $127.76 | 1 hour, $109.90 | 2 hours, $154.32 | 1 hour, $129.42 | 521.40 | 39,105.00
Monthly Report-ADS Supplemental | 1 hour, $127.76 | 1 hour, $109.90 | 2 hours, $154.32 | 1 hour, $129.42 | 521.40 | 20,856.00
Monthly Reports-No Reportable Information | 0 hours, $0 | 0 hours, $0 | 15 minutes, $19.29 | 0 hours, $0 | 19.29 | 20,370.24
Additional Screening | 12 hours, $1,533.12 | 72 hours, $7,912.80 | 84 hours, $6,481.44 | 72 hours, $9318.24 | 25,245.60 | 504,912.00
Training | 0 hours, $0 | 40 hours, $4,396 | 0 hours, $0 | 0 hours, $0 | 4,396 | 8,792
Setting Up Account | 2 hours, $255.52 | 0 hours, $0 | 0 hours, $0 | 0 hours, $0 | 255.52 | 2,555.20
Total |  |  |  |  |  | $3,290,351.24

Estimated Total Annual Burden Cost: $0.

In the 60-day notice, NHTSA stated that it did not know whether manufacturers would incur additional costs, nor did it have a basis for estimating these costs. In the notice, NHTSA sought comment on whether manufacturers will incur any additional costs associated with complying with the new reporting requirements, such as investing in new IT infrastructure. In response, NHTSA received one comment from Auto Innovators, which stated that “in addition to the cost of labor associated with the handling of the crash information, there are also fiscal burdens associated with the hardware and software infrastructure to monitor and manage crash reporting.” They further stated that reporting entities have already invested significant resources into setting up internal processes for the handling of crash information, which often include IT systems that come at a financial cost. The comment, however, did not provide sufficient information for NHTSA to estimate additional annual costs to reporting entities. Until NHTSA has more information on additional costs, NHTSA continues to estimate that annual costs to respondents is $0.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Ann E. Carlson,
Chief Counsel.

[FR Doc. 2021-28311 Filed 12-28-21; 8:45 am]

BILLING CODE 4910-59-P